SMALL BUSINESS ADMINISTRATION

[Declaration of Disaster #3394]

State of Oklahoma; Amendment # 2

In accordance with information received from the Federal Emergency Management Agency, the above numbered declaration is hereby amended to extend the deadline for filing applications for physical damages as a result of this disaster to April 8, 2002.

The deadline for filing applications for economic injury has also been extended to November 7, 2002. All other information remains the same.

(Catalog of Federal Domestic Assistance Program Nos. 59002 and 59008.)

Dated: February 26, 2002.
Herbert L. Mitchell,
Associate Administrator For Disaster Assistance.

[FR Doc. 02-5050 Filed 3-1-02; 8:45 am]

BILLING CODE 8025-01-P